DEPARTMENT OF LABOR

Employment and Training Administration

[TA-W-91,562]

Halliburton Energy Services, 2600 S. 2nd Street, Duncan, Oklahoma; Notice of Affirmative Determination Regarding Application for Reconsideration

By application dated June 22, 2016, workers requested administrative reconsideration of the negative determination regarding workers' eligibility to apply for worker adjustment assistance applicable to workers and former workers of Halliburton Energy Services, 2600 S. 2nd Street, Duncan, Oklahoma. The determination was issued on May 22, 2016.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that increased imports of oil and natural gas did not contribute importantly to the separations at Halliburton Energy Services, the firm did not shift the production of oil or natural gas to a foreign country or acquire oil or natural gas from a foreign country. Furthermore, the firm was not a Supplier or Downstream Producer to a firm whose workers were certified eligible to apply for Trade Adjustment Assistance and the firm was not publicly named by the International Trade Commission as a part of a domestic industry in an affirmative finding of serious injury, market disruption, or material injury, or threat thereof.

The request for reconsideration asserts that workers in the same location are receiving the same benefits.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 22nd day of August, 2016.
Hope D. Kinglock,
Certifying Officer, Office of Trade Adjustment Assistance.

[FR Doc. 2016-23025 Filed 9-23-16; 8:45 am]

BILLING CODE P